DEPARTMENT OF HOMELAND SECURITY

Coast Guard

[Docket No. USCG-2016-0937]

Lower Mississippi River Waterway Safety Advisory Committee

AGENCY: Coast Guard, Department of Homeland Security.

ACTION: Notice of Federal advisory committee meeting.

SUMMARY: The Lower Mississippi River Waterway Safety Advisory Committee will meet on November 8, 2016 in New Orleans, LA to discuss committee matters relating to the safe transit of vessels and cargoes to and from the ports of the Lower Mississippi River. The meeting will be open to the public.

DATES: The Lower Mississippi River Waterway Safety Advisory Committee will meet on Tuesday, November 8, 2016 from 9 a.m. to 1 p.m. CST. However, on Tuesday, November 8, 2016 from 9 a.m. to 9:30 a.m., administrative items and issues will be discussed with the Committee members only. The public meeting will commence at 9:30 a.m. Please note that the meeting may close early if the Committee has completed its business.

ADDRESSES: The meeting will be held at the US Army Corps of Engineers New Orleans District office, 7400 Leake Avenue, New Orleans, LA.

All visitors to US Army Corps of Engineers New Orleans District office will have to pre-register to be admitted to the building. Please provide your name, telephone number, and citizenship status by close of business on November 1, 2016, to the contact person listed in FOR FURTHER INFORMATION CONTACT.

For information on facilities or services for individuals with disabilities or to request special assistance at the meeting, contact the person listed in the FOR FURTHER INFORMATION CONTACT as soon as possible.

Instructions: To facilitate public participation, written comments on the issues in the “Agenda” section below must be submitted no later than November 1, 2016, if you want Committee members to review your comment prior to the meeting. You must include “Department of Homeland Security” and the docket number (USCG-2016-0937). Written comments may also be submitted using Federal eRulemaking Portal: http://www.regulations.gov. For technical difficulties, contact the person listed in FOR FURTHER INFORMATION CONTACT. Comments received will be posted without alteration at http://www.regulations.gov, including any personal information provided. You may review a Privacy Act notice regarding the Federal Docket Management System in the March 24, 2005 issue of the Federal Register (70 FR 15086). Docket Search: For access to the docket to read documents or comments related to this notice, go to http://www.regulations.gov, and use “USCG-2016-0937” in the “Search” box, press Enter, and then click on the item you wish to view.

FOR FURTHER INFORMATION CONTACT: Lieutenant Brian Porter, Alternate Designated Federal Officer, U.S. Coast Guard Sector New Orleans, 200 Hendee Street, New Orleans, LA 70114; telephone 504-365-2375, fax 504-365-2287, or email at Brian.J.Porter@uscg.mil.

SUPPLEMENTARY INFORMATION: Notice of this meeting is in compliance with the Federal Advisory Committee Act (Title 5 U.S.C. Appendix). The Lower Mississippi River Waterway Safety Advisory Committee is an advisory committee authorized in Section 19 of the Coast Guard Authorization Act of 1991, (Public Law 102-241), as amended by section 621(d) of the Coast Guard Authorization Act of 2010, (Public Law 111-281) and chartered under the provisions of the Federal Advisory Committee Act. The Lower Mississippi River Waterway Safety Advisory Committee provides advice and recommendations to the Department of Homeland Security on matters relating to communications, surveillance, traffic management, anchorages, development and operation of the New Orleans Vessel Traffic Service, and other related topics dealing with navigation safety on the Lower Mississippi River as required by the U.S. Coast Guard.

Agenda

At 9 a.m., the Lower Mississippi River Waterway Safety Advisory Committee will meet to review, discuss, deliberate, and formulate recommendations, as appropriate, on the topics contained in the agenda, as follows: 9 a.m. to 9:30 a.m.: (Open to Committee members only). Federal Advisory Committee Act administrative matters to include Lower Mississippi River Waterway Safety Advisory Committee member training.

At 9:30 a.m., the meeting will open to the public.

(1) Introduction and swearing-in of new members.

(2) Status of Action Items from March 2015 meeting.

(a) Mile Marker 73 Memorandum of Understanding.

(b) Anchorage Establishment and Amendments.

(c) Systematic Port Planning.

(d) Lower Mississippi River Waterway Safety

Advisory Committee Vacancy Notice

(3) Further development of systematic port planning principles and procedures.

(4) Public Comment Period.

(5) Adjournment of meeting.

Public comments or questions will be taken throughout the meeting as the Committee discusses the issues and prior to deliberations and voting. There will also be a public comment period at the end of the meeting. Speakers are requested to limit their comments to 3 minutes. Please note that the public comment period may end before the period allotted, following the last call for comments. Contact the individual listed in the FOR FURTHER INFORMATION CONTACT section to register as a speaker.

D.R. Callahan,
Rear Admiral, U.S. Coast Guard, Commander, Eighth Coast Guard District.

[FR Doc. 2016-25477 Filed 10-20-16; 8:45 am]

BILLING CODE 9110-04-P